NATIONAL LABOR RELATIONS BOARD

29 CFR Parts 101-103

Semiannual Regulatory Agenda

AGENCY: National Labor Relations Board (NLRB).

ACTION: Semiannual regulatory agenda.

SUMMARY: The following agenda of the National Labor Relations Board is published in accordance with Executive Order 12866, “Regulatory Planning and Review,” and the Regulatory Flexibility Act (RFA), 5 U.S.C. 601-612, as amended by the Small Business Regulatory Enforcement Fairness Act.

The complete Unified Agenda is available online at www.reginfo.gov. Publication in the Federal Register is mandated only for regulatory flexibility agendas required under the RFA. Because the RFA does not require regulatory flexibility agendas for the regulations proposed and issued by the Board, the Board's agenda appears only on the internet at www.reginfo.gov.

The Board's agenda refers to www.regulations.gov, the Government website at which members of the public can find, review, and comment on Federal rulemakings that are published in the Federal Register and open for comment.

FOR FURTHER INFORMATION CONTACT: For further information concerning the regulatory actions listed in the agenda, contact Farah Z. Qureshi, Associate Executive Secretary, National Labor Relations Board, 1015 Half Street SE, Washington, DC 20570; telephone: (202) 273-1949, TTY/TDD 1-800-315-6572; email: Farah.Qureshi@nlrb.gov.

Farah Z. Qureshi,
Associate Executive Secretary.

National Labor Relations Board—Proposed Rule Stage
Sequence No. | Title | Regulation Identifier No.
508 | Joint-Employer Rulemaking | 3142-AA13

NATIONAL LABOR RELATIONS BOARD (NLRB)

Proposed Rule Stage

508. Joint-Employer Rulemaking

E.O. 13771 Designation: Independent agency.

Legal Authority: 29 U.S.C. 156

Abstract: The National Labor Relations Board will be engaging in rulemaking to establish the standard for determining joint-employer status under the National Labor Relations Act.

Timetable:

Action | Date | FR Cite
NPRM | 09/14/18 | 83 FR 46681
NPRM Comment Period End | 11/13/18

Regulatory Flexibility Analysis Required: Yes.

Agency Contact: Roxanne Rothschild, National Labor Relations Board, 1015 Half Street SE, Washington, DC 20570, Phone: 202 273-2917, Email: roxanne.rothschild@nlrb.gov.

Farah Qureshi, National Labor Relations Board, 1015 Half Street SE, Washington, DC 20570, Phone: 202 273-1949, Email: farah.qureshi@nlrb.gov.

RIN: 3142-AA13

[FR Doc. 2018-23932 Filed 11-15-18; 8:45 am]

BILLING CODE 8421-03-P